DEPARTMENT OF ENERGY

Federal Energy Regulatory Commission

Combined Notice of Filings #1

January 25, 2006.

Take notice that the Commission received the following electric rate filings: Docket Numbers: ER00-3251-011; ER99-754-013; ER98-1734-011; ER01-1919-008; ER99-2404-008; ER01-513-011; ER01-513-012; ER01-513-013; ER01-513-014; ER01-513-015.

Applicants: Exelon Generating Company, LLC; AmerGen Energy Company, LLC; Commonwealth Edison Company; Exelon Energy Company; Exelon New England Power Marketing, L.P.; Exelon Edgar, LLC; Exelon West Medway, LLC; Exelon Wyman, LLC; Exelon New Boston, LLC; Exelon Framingham, LLC.

Description: Exelon Entities submit a compliance filing in response to the 12/29/05 Commission letter.

Filed Date: 01/19/2006.

Accession Number: 20060119-5081.

Comment Date: 5 p.m. Eastern Time on Thursday, February 9, 2006.

Docket Numbers: ER03-1079-006; ER02-47-006; ER95-216-026; ER03-725-006; ER02-309-006; ER02-1016-004; EL05-83-001.

Applicants: Aquila, Inc.; Aquila Long Term, Inc.; Acquila Merchant Services, Inc.; Aquila Piatt County L.L.C.; MEP Clarksdale Power, LLC; MEP Flora Power, LLC.

Description: Aquila, Inc., et al., submit amendment to First Revised Sheet No. 2 et al., FERC Electric Tariff, First Revised Volume No. 1 for Aquila Long Term, AMS, Piatt County Clarksdale, and MEP Flora in compliance with FERC's 12/13/05 Order.

Filed Date: 01/12/2006.

Accession Number: 20060123-0026.

Comment Date: 5 p.m. Eastern Time on Thursday, February 2, 2006.

Docket Numbers: ER05-739-001.

Applicants: Yoakum Electric Generating Cooperative.

Description: Withdrawal by Yoakum Electric Generating Cooperative, Inc., of Application for market based rate authorization.

Filed Date: 12/15/2005.

Accession Number: 20051215-5032.

Comment Date: 5 p.m. Eastern Time on Monday, February 6, 2006.

Docket Numbers: ER06-453-000.

Applicants: Brascan Power St. Lawrence River LLC.

Description: Brascan Power St. Lawrence River LLC's notice of cancellation of terminating market-based tariff filed under ER05-98.

Filed Date: 01/04/2006.

Accession Number: 20060109-0102.

Comment Date: 5 p.m. Eastern Time on Monday, February 6, 2006.

Docket Numbers: ER06-515-000.

Applicants: Mirant Peaker, LLC.

Description: Mirant Peaker, LLC submits notice to cancel its FERC Electric Tariff, First Revised Volume No. 1, effective 1/3/06 pursuant to Order 614.

Filed Date: 01/18/2006.

Accession Number: 20060123-0024.

Comment Date: 5 p.m. Eastern Time on Wednesday, February 8, 2006.

Docket Numbers: ER06-516-000.

Applicants: TECO EnergySource, Inc.

Description: TECO EnergySource, Inc., submits an amended notice of cancellation terminating its market-based electric tariff submitted 12/01/05.

Filed Date: 01/18/2006.

Accession Number: 20060124-0071.

Comment Date: 5 p.m. Eastern Time on Friday February 3, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Magalie R. Salas,
Secretary.

[FR Doc. E6-1262 Filed 1-31-06; 8:45 am]

BILLING CODE 6717-01-P